FEDERAL RETIREMENT THRIFT INVESTMENT BOARD

Sunshine Act; Notice of Meeting

Time and Date: 9 a.m. (Eastern Time) April 16, 2007.

Place: 4th Floor Conference Room, 1250 H Street, NW., Washington, DC 20005.

Status: Parts will be open to the public and parts closed to the public

Matters to be Considered:

Parts Open to the Public

1. Approval of the minutes of the March 19, 2007 Board member meeting

2. Thrift Savings Plan activity report by the Executive Director

a. Monthly Participant Activity Report

b. Legislative Report

3. Quarterly Reports

a. Investment Policy Review

b. Vendor Financial Reports

4. Financial Audit Report

Parts Closed to the Public

5. Personnel

Contact Person for More Information: Thomas J. Trabucco, Director, Office of External Affairs, (202) 942-1640.

Dated: April 9, 2007.
Thomas K. Emswiler,
Secretary to the Board, Federal Retirement Thrift Investment Board.

[FR Doc. 07-1821 Filed 4-9-07; 12:18 pm]

BILLING CODE 6760-01-P